DEPARTMENT OF ENERGY

Federal Energy Regulatory Commission

[Project No. 13722-000]

Douglas County, OR; Notice of Preliminary Permit Application Accepted for Filing and Soliciting Comments, Motions To Intervene, and Competing Applications

June 24, 2010.

On May 5, 2010, Douglas County, Oregon, filed an application for a preliminary permit, pursuant to section 4(f) of the Federal Power Act, proposing to study the feasibility of the Douglas County Wave and Tidal Energy Power Project, in the Pacific Ocean, off the coast of Douglas County, Oregon. The sole purpose of a preliminary permit, if issued, is to grant the permit holder priority to file a license application during the permit term. A preliminary permit does not authorize the permit holder to perform any land-disturbing activities or otherwise enter upon lands or waters owned by others without the owners' express permission.

The proposed project would consist of: (1) An approximately 600-foot-long, 30-foot-wide, 46-foot-high cassion to house the oscillating water column collecting system (OWCCS); (2) an OWCCS consisting of 15 oscillating water column chambers, each containing two, 110-kilowatt turbine/generator units; and (3) a 1.9- to 2.3-mile-long transmission line, depending on the final location and selection of the transmission line. The project would have a total installed capacity of 1 megawatt (MW) to 3 MW, and an estimated annual generation of 3.4 gigawatt-hours (GWh) to 10.2 GWh. The OWCSS is operated by external wave action, which causes water to oscillate up and down within an underwater chamber. As the air in the chamber above the water is compressed and decompressed, air is forced through a turbine/generator unit. There are four locations under evaluation for the proposed project installation.

Applicant Contacts: Ronald S. Yockim, 430 SE. Main Street, P.O. Box 2456, Roseburg, OR 97470; phone: (541) 957-5900. Paul Meyer, County Counsel, Douglas County Board of Commissioners, 1036 SE. Douglas, Roseburg, OR 97470; phone: (541) 440-4391.

FERC Contact: Jennifer Harper, phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13722) in the docket number field to access the document. For assistance, contact FERC Online Support.

Kimberly D. Bose,
Secretary.

[FR Doc. 2010-16276 Filed 7-2-10; 8:45 am]

BILLING CODE 6717-01-P